DEPARTMENT OF JUSTICE

Civil Division; Agency Information Collection Activities; Proposed Collection; Comments Requested

AGENCY: Notice of information collection under review; extension of a currently approved collection, claim for damage, injury, or death.

The Department of Justice, Civil Division has submitted the following information collection request to the Office of Management and Budget (OMB) for review and clearance in accordance with the Paperwork Reduction Act of 1995. The information collection was previously published in the Federal Register on March 28, 2001 (Volume 66, Number 60, Page 16959) allowing for a 60 day public comment period. No comments were received by the Civil Division on this information collection.

The purpose of this notice is to allow an additional 30 days for public comments. Comments are encouraged and will be accepted until July 5, 2001. This process is conducted in accordance with 5 CFR 1320.10.

Written comments and/or suggestions regarding the items contained in this notice, especially regarding the estimated public burden and associated response time, should be directed to the Office of Management and Budget, Office of Information and Regulatory Affairs, Attention: Department of Justice Desk Officer, Washington, DC 20530.

Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Extension of a currently approved collection.

(2) Title of the Form/Collection: Claim for Damage, Injury, or Death.

(3) Agency form number, if any, and the applicable component of the Department of Justice sponsoring the collection: Form SF95, Claim for Damage, Injury, or Death. Civil Division.

(4) Affected public who will be asked or required to respond, as well as a brief abstract: Primary: Individuals or households. Others that apply: Business or other for-profit, not-for-profit institutions, State, Local or Tribal Government. This information is needed to present a claim against the United States Government under the Federal Tort Claims Act, 28 U.S.C. § 2675(a).

(5) An estimate of the total number of respondents and the amount of time estimated for an average respondent to respond: 300,000 responses at 6 hours per response.

(6) An estimate of the total public burden (in hours) associated with the collection: 1,800,000 annual burden hours.

If additional information is required contact: Mr. Robert B. Briggs, Clearance Officer, United States Department of Justice, Management Division, Suite 1220, 1331 Pennsylvania Ave., NW., Washington, DC 20004.

Dated: May 29, 2001.
Robert B. Briggs,
Department Clearance Officer, United States Department of Justice.

[FR Doc. 01-13889 Filed 6-1-01; 8:45 am]

BILLING CODE 4410-12-M